SMALL BUSINESS ADMINISTRATION

[Declaration of Disaster #3346]

State of Kentucky

Laurel County and the contiguous counties of Clay, Jackson, Knox, McCreary, Pulaski, Rockcastle and Whitley constitute a disaster area due to damages caused by severe storms and tornadoes that occurred on June 2, 2001. Applications for loans for physical damage may be filed until the close of business on August 10, 2001 and for economic injury until the close of business on March 11, 2002 at the address listed below or other locally announced locations: U.S. Small Business Administration, Disaster Area 2 Office, One Baltimore Place, Suite 300, Atlanta, GA 30308.

The interest rates are:

For Physical Damage

Homeowners With Credit Available Elsewhere: 6.625%

Homeowners Without Credit Available Elsewhere: 3.312%

Businesses With Credit Available Elsewhere: 8.000%

Businesses and Non-Profit Organizations Without Credit Available Elsewhere: 4.000%

Others (Including Non-Profit Organizations) With Credit Available Elsewhere: 7.125%

For Economic Injury

Businesses and Small Agricultural Cooperatives Without Credit Available Elsewhere: 4.000%

The number assigned to this disaster for physical damage is 334611 and for economic injury the number assigned is 9L8500.

(Catalog of Federal Domestic Assistance Program Nos. 59002 and 59008)

Dated: June 11, 2001.
John Whitmore,
Acting Administrator.

[FR Doc. 01-15454 Filed 6-19-01; 8:45 am]

BILLING CODE 8025-01-U